ENVIRONMENTAL PROTECTION AGENCY

40 CFR Part 52

[EPA-R05-OAR-2014-0206; FRL-9912-56-Region 5]

Approval and Promulgation of Implementation Plans; Wisconsin; Nitrogen Oxide Combustion Turbine Alternative Control Requirements for the Milwaukee-Racine Former Nonattainment Area

AGENCY: Environmental Protection Agency (EPA).

ACTION: Withdrawal of direct final rule.

SUMMARY: Due to the receipt of an adverse comment, EPA is withdrawing the April 30, 2014, direct final rule approving a revision to the Wisconsin State Implementation Plan. EPA will address the comment in a subsequent final action based upon the proposed rulemaking action, also published on April 30, 2014. EPA will not institute a second comment period on this action.

DATES: The direct final rule published at 79 FR 24337 on April 30, 2014, is withdrawn effective June 25, 2014.

FOR FURTHER INFORMATION CONTACT: Steven Rosenthal, Environmental Engineer, Attainment Planning & Maintenance Section, Air Programs Branch (AR-18J), U.S. Environmental Protection Agency, Region 5, 77 West Jackson Boulevard, Chicago, Illinois 60604, (312) 886-6052, rosenthal.steven@epa.gov.

SUPPLEMENTARY INFORMATION: EPA is withdrawing the April 30, 2014 (79 FR 24337), direct final rule approving a revision to the Wisconsin nitrogen oxide combustion turbine rule for the Milwaukee-Racine former nonattainment area. In the direct final rule, EPA stated that if adverse comments were received by May 30, 2014, the rule would be withdrawn and not take effect. On May 30, 2014, EPA received a comment, which it interprets as adverse and, therefore, EPA is withdrawing the direct final rule. EPA will address the comment in a subsequent final action based upon the proposed rulemaking action, also published on April 30, 2014 (79 FR 24359). EPA will not institute a second comment period on this action.

List of Subjects in 40 CFR Part 52

Environmental protection, Air pollution control, Incorporation by reference, Intergovernmental relations, Nitrogen oxides, Reporting and recordkeeping requirements.

Authority: 42 U.S.C. 7401 et seq.

Dated: June 11, 2014.
Susan Hedman,
Regional Administrator, Region 5.

PART 52—APPROVAL AND PROMULGATION OF IMPLEMENTATION PLANS

Accordingly, the amendment to 40 CFR 52.2570 published in the Federal Register on April 30, 2014 (79 FR 24337) on page 24340 is withdrawn effective June 25, 2014.

[FR Doc. 2014-14686 Filed 6-24-14; 8:45 am]

BILLING CODE 6560-50-P